ENVIRONMENTAL PROTECTION AGENCY

40 CFR Part 52

[EPA-R02-OAR-2024-0042; FRL 12249-01-R2]

Air Plan Approval; New York; Knowlton Technologies LLC

AGENCY: Environmental Protection Agency.

ACTION: Proposed rule.

SUMMARY: The Environmental Protection Agency (EPA) is proposing to approve a revision to the State of New York's State Implementation Plan (SIP) for the ozone National Ambient Air Quality Standard (NAAQS) related to a Source-specific SIP (SSSIP) revision for Knowlton Technologies LLC, located at 213 Factory Street, Watertown, New York (the Facility). The EPA is proposing to find that the control options in this SSSIP revision implement Reasonably Available Control Technology (RACT) with respect to volatile organic compound (VOC) emissions from the relevant Facility sources, which are identified as two underground storage tanks holding virgin methanol. This SSSIP revision is intended to implement VOC RACT for the relevant Facility sources in accordance with the requirements for implementation of the 2008 and 2015 ozone NAAQS. This proposed action will not interfere with ozone NAAQS requirements and meets all applicable requirements of the Clean Air Act (CAA).

DATES: Comments must be received on or before January 10, 2025.

ADDRESSES: Submit your comments, identified by Docket Number EPA-R02-OAR-2024-0042, at https://www.regulations.gov. Although listed in the index, some information is not publicly available, e.g., Confidential Business Information (CBI) or other information whose disclosure is restricted by statute. Certain other material, such as copyrighted material, is not placed on the internet and will be publicly available only in hard copy form. Publicly available docket materials are available electronically through https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, such as the full EPA public comment policy, information about CBI or multimedia submissions, and general guidance on making effective comments, please visit https://www.epa.gov/dockets/commenting-epa-dockets.

FOR FURTHER INFORMATION CONTACT: Linda Longo, Air Programs Branch, Environmental Protection Agency, Region 2 Office, 290 Broadway, 25th Floor, New York, New York 10007-1866, (212) 637-3565, or by email at longo.linda@epa.gov.

SUPPLEMENTARY INFORMATION: For additional information on regulatory background and the EPA's technical findings relating to the Facility RACT, the reader can refer to the Technical Support Document (TSD) that is contained in the EPA docket assigned to this Federal Register document.

Table of Contents

I. Background

II. The EPA's Evaluation of New York's Submission and RACT Analysis

III. Environmental Justice Considerations

IV. Proposed Action

V. Incorporation by Reference

VI. Statutory and Executive Order Reviews

I. Background

Ground Level Ozone Formation

Ground level ozone is predominantly a secondary air pollutant created by chemical reactions that occur when ozone precursors, including nitrogen oxides (NOX) and volatile organic compounds (VOC), chemically react in the presence of sunlight.¹ Emissions from industrial facilities are anthropogenic sources of ozone precursors. The potential for ground-level ozone formation tends to be highest during months with warmer temperatures and stagnant air masses. Ozone levels are thus generally higher during the summer months, which is often referred to as “the ozone season.” In New York, the ozone season is generally considered to be between April 15 and October 15, while the non-ozone season is generally considered to be between October 16 and April 14.

¹ Primary standards provide public health protection, including protecting the health of “sensitive” populations such as asthmatics, children, and the elderly. Secondary standards provide public welfare protection, including protection against decreased visibility and damage to animals, crops, vegetation, and buildings.

Ozone Nonattainment

A geographic area of the United States that is not meeting the primary or secondary National Ambient Air Quality Standard (NAAQS) for ozone is described as a nonattainment area. Nonattainment areas are classified as either Marginal, Moderate, Serious, Severe, or Extreme. With respect to this proposed action, there are two relevant ozone NAAQS standards. First, on March 12, 2008, the EPA promulgated a revision to the ozone NAAQS, setting both the primary and secondary standards at 0.075 parts per million (ppm) averaged over an 8-hour time frame (2008 8-hour Ozone Standard). See 73 FR 16436 (March 27, 2008). Second, on October 1, 2015, the EPA lowered these standards to 0.070 ppm averaged over an 8-hour time frame (2015 8-hour Ozone Standard). See 80 FR 65292 (October 26, 2015).

The State of New York has two ozone nonattainment areas: (1) Jamestown, and (2) the New York Metro Area,² consisting of the Bronx County, Kings County, Nassau County, New York County, Queens County, Richmond County, Rockland County, Suffolk County, Westchester County. Under CAA section 184, the State of New York is located within the Ozone Transport Region (OTR), which means that it is subject to statewide RACT requirements. This Facility is not located in an ozone nonattainment area, but it is still required to implement RACT because it is located within the OTR.

² The New York Metro Area is part of the greater nonattainment area New York-N. New Jersey-Long Island, NY-NJ-CT.

Federal RACT Requirements

RACT is defined as the lowest emission limit that a source is capable of meeting through the application of control technology that is reasonably available considering technological and economic feasibility. The CAA section 182, Plan Submissions and Requirements, requires States with ozone nonattainment areas to include in their statewide SIPs, among other things, provisions to require the implementation of RACT. CAA section 184(b)(2) sets forth the requirement to establish control measures to implement RACT for major sources of VOC located in the OTR. The State of New York is located within the OTR, and thus the State is required to implement RACT for all major sources of VOC within the State. RACT for a particular source is determined on a case-by-case basis, considering the technological and economic circumstances of the individual source.

NYSDEC RACT Requirements

The New York State Department of Environmental Conservation (NYSDEC) RACT regulations require applicable facilities to meet certain requirements, referred to as “presumptive RACT requirements.” These presumptive requirements generally require sources to implement emission limits, control efficiency requirements, specific control technologies, averaging plans, and/or fuel/raw material switching practices. In some instances, the presumptive RACT requirements may not be technologically or economically feasible for a certain source, and the State can make a Source-specific RACT determination, which is submitted to the EPA as a SSSIP. The SSSIP should include the facility's RACT plan that demonstrates how the facility will implement RACT. The SSSIP will also include the applicable CAA title V operating permit conditions that address RACT requirements. These permit conditions for the Facility will become federally enforceable upon the EPA approval of the SSSIP.

Under existing NYSDEC RACT regulations, facilities are required to assess all technologically feasible control options that meet the State's cost threshold. The cost threshold for NYSDEC RACT requirements is found under NYSDEC 2013 policy, “DAR-20 Economic and Technical Analysis for Reasonably Available Control Technology (RACT).” Under this policy, facilities must consider in their RACT determinations control technologies that remove VOC or NOX emissions up to a certain cost threshold, expressed in a dollar amount per ton of VOC or NOX removed, which includes an inflation-adjusted economic threshold.³

³ The DAR-20 cost threshold is based on 1994 dollars. State of New York relies on the U.S. Department of Labor, Bureau of Labor Statistics inflationary calculator to adjust the RACT economic feasibility threshold over time for inflation. See https://www.bls.gov/data/inflation_calculator.htm.

II. The EPA's Evaluation of New York's SSSIP Revision and RACT Analysis

This action relates to a SSSIP revision that concerns a paper manufacturer for specialty papers, automotive filter, and friction papers (the Facility). The sources at issue in this action are the Facility's two 10,000-gallon underground storage tanks (USTs) used to store and supply virgin methanol to the solvent saturator process line as part of the manufacturing process. NYSDEC RACT regulations establish RACT requirements for this source in 6 NYCRR part 212, “Process Operations,” subpart 212-3, “Reasonably Available Control Technology for Major Facilities,” last approved into New York's SIP by the EPA on October 1, 2021. See 87 FR 54375 (October 1, 2021). However, as explained above, the NYSDEC RACT regulations allow Source-specific RACT determinations if the presumptive RACT requirements are not technologically or economically feasible; such Source-specific determinations must be submitted to the EPA as a SSSIP.

This SSSIP was submitted to EPA by NYSDEC on February 22, 2023, and it replaces and withdraws the SSSIP that was submitted by the State on September 16, 2008. In this SSSIP submittal, the EPA has reviewed the RACT determination for the USTs for consistency with the CAA and the EPA regulations, as interpreted through EPA actions and guidance.

The intended effect of this Source-specific SIP revision is to establish an emission limit for the USTs that are not covered by other New York Source-specific RACT regulations, and therefore must follow 6 NYCRR part 212 as a process operation.⁴ The USTs are considered a process operation because they: (1) Store and supply virgin methanol to the solvent saturator process line that is part of the paper manufacturing process; (2) store virgin methanol without changing the material makeup; and (3) are equipped with a vent that emits to the outdoor atmosphere.⁵ The tanks therefore meet the definition of process operation because they are part of a manufacturing process in which materials are stored without changing the materials, the storage system is equipped with a vent and is non-mobile, and the tanks emit air contaminants to the outdoor atmosphere.

⁴ Under 6 NYCRR part 212, Definitions (18), “Process operation.” Any industrial, institutional, commercial, agricultural, or other activity, operation, manufacture or treatment in which chemical, biological and/or physical properties of the material or materials are changed, or in which the material(s) is conveyed or stored without changing the material(s) if the conveyance or storage system is equipped with a vent(s) and is non-mobile, and that emits air contaminants to the outdoor atmosphere. A process operation does not include an open fire, operation of a combustion installation, or incineration of refuse other than by-products or wastes from a process operation(s).

⁵ Found in 6 NYCRR part 212-1.2(b)(18).

The EPA is proposing to determine through this SSSIP action that the VOC RACT emission limit submitted by the State in this SSSIP for the USTs is the lowest emission limit with the application of control technology that is reasonably available given technological and economic feasibility considerations. The respective VOC RACT emission limit is contained in the Facility's title V operating permit, 6-2218-00017/00009, under Condition 32, emission unit 1-TANKS, issued by the State on December 27, 2022, and expires on December 26, 2027. Condition 32 is being incorporated into the SIP and includes monitoring, reporting, and recordkeeping requirements for the proposed UST throughput measures further described in EPA RACT Analysis below and in section IV.

The Facility submitted a RACT plan, dated March 2022, for the emission unit and NYSDEC reviewed and approved the emission limit as adequately implementing RACT for the source. NYSDEC then submitted the Source-specific SIP revision package at issue in this action for EPA approval, and the EPA is proposing to approve the respective emission limit as implementing RACT for this source. This would make the emission limit federally enforceable.

EPA RACT Analysis

The following is a summary of the EPA's analysis of how the proposed VOC emission limit implements RACT for emission unit 1-TANKS that represent two 10,000-gallon USTs.

The Facility's two 10,000-gallon USTs store and supply virgin methanol to the solvent saturator process line. As described above, the USTs are characterized as a process operation under 6 NYCRR part 212, “Process Operations.” Since the Facility-wide potential to emit (PTE) is greater than 50 tons of VOC per year, the USTs must implement a VOC removal efficiency of at least 81 percent when equipped with capture system and control device found in NYSDEC RACT regulations under 6 NYCRR part 212-3.1(c)(4)(i).⁶ The USTs contribute to the Facility's estimated PTE of 0.126 ton (252 pounds) of VOC per year. The filling operation of the methanol to the USTs has an Emission Rate Potential (ERP) of 3.33 pounds per hour (252 pounds/year). The ERP was calculated by the Facility using maximum fill rate of 80 gallons per minute and the maximum time for filling one tank to be filled at 1 hour.⁷ When the ERP is greater than 3.00 pounds per hour, under 6 NYCRR subpart 212-3.1(c)(1), the emission source must implement RACT. Furthermore, pursuant to 6 NYCRR part 212-3.1(c)(4)(iii), NYSDEC may “accept a lesser degree of control” upon satisfactorily demonstrating RACT as an alternate limit when there is no capture system or control device. The Facility has no capture system or control devices because currently none have been identified that are both technically feasible and cost effective. As a result, a RACT analysis must demonstrate an alternate emission limit to comprise RACT and a RACT variance can be requested pursuant to 6 NYCRR part 212-3.1(c)(4)(iii). Such a RACT variance can be approved if supported by a RACT analysis and submitted to the EPA for review as a SIP revision.

⁶ New York RACT regulation 6 NYCRR subpart 212-3.1(a)(2) applies because the Facility is located outside the listed New York counties and has a potential to emit VOC greater than 50 tons per year.

⁷ Since emission point TANK 1 includes two USTs and only one UST is filled at a time, the EPA estimates 1 hour fill time per tank. See, RACT Plan, Section 1.3, Emission Point Description, Section 3. Baseline Emissions, and Table C1, Baseline Emission Point Parameters Emission Point TANK1.

The Facility's RACT analysis demonstrates that no VOC control technologies are technologically and economically feasible other than the control of VOC emissions during filling operations and monitoring the methanol delivery to ensure the operation of the USTs are staying below the throughput limit in permit Condition 32. As stated in permit Condition 32, the Facility must continue to investigate VOC RACT strategies, including an evaluation of the possibility of reformulation, abatement technology and/or process modification, and submit an updated VOC RACT demonstration as part of its title V renewal application. Title V permits are renewed every 5 years.

The USTs generate VOC emissions during filling operations by vapor displacement. Vapor displacement is a normal process that occurs during tank filling when a volume of vapor-laden air (e.g., methanol gases) is displaced that is equal to the volume of liquid (e.g., methanol) that is added to the tank. Vapor displacement occurs so that the pressure in the tank is constant. To control the amount of VOC emissions generated during vapor displacement, a throughput limit can be established through a permit condition. Throughput is the total volume of methanol that is loaded to or dispensed from the USTs. Methanol delivery from the supplier's tanker truck to the USTs, as well as the methanol stored in the USTs that is used by the Facility, are controlled by limiting the throughput. In addition, the two USTs are equipped with one fill port to allow only one tank to be filled at a time which limits the VOC emissions during filling operations.⁸

⁸ RACT plan, Appendix B, Section 2. Figure 1 identify the outside of the tanks building where the fill port is located. The fill port is how the methanol is delivered to the tank. Figure 2 identifies the inside of the tanks building and the location of the methanol fill line that has a valve. The tanker truck operator must go inside the tanks building and manually control the valve before directing the methanol to either tank 1 or tank 2, one tank at a time. Deliveries of methanol are monitored to ensure the permitted throughput is not exceeded.

NYSDEC reviewed the RACT analysis and determined that the alternate emission limit implements RACT for the USTs. Specifically, NYSDEC approved the following case-by-case emission limit and requirements: (1) The VOC emissions are limited by restricting the methanol throughput at the tanks to 2,500,000 pounds/year with a 12-month rolling total; (2) The throughput was calculated by considering the greatest emissions possible based on operational needs during tank filling to establish the potential to emit at 252 pounds VOC; (3) the Facility must maintain monthly records to verify the throughput in support of a 12-month rolling total; (4) any increase in throughput beyond 2,500,000 pounds/year will require the Facility to submit a VOC RACT demonstration that addresses RACT options at the higher methanol throughput rate.

The EPA is proposing to determine that the proposed limit for the USTs implements RACT because: (1) The RACT analysis demonstrated that no additional control technologies beyond what are currently used at the USTs are technically and economically feasible; (2) the EPA review indicates that no underground storage tanks in the United States store methanol in an underground storage tank that has VOC add-on controls; (3) any increase in throughput beyond 2,500,000 pounds/year will require the Facility to submit a VOC RACT demonstration that implements RACT at the higher methanol throughput rate; and (4) the limit adequately restricts the throughput of the methanol loaded to, or dispensed from, the USTs.

Further detail on this analysis is provided in the TSD available in the docket for this rulemaking.

Summary of RACT Controls.

Currently, the Facility limits the VOC emissions from the USTs by limiting the methanol throughput at 2,500,000 pounds/year. In its RACT analysis, the Facility demonstrated that no cost-effective controls were technically feasible. We are proposing to determine that the following additional technically feasible control options do not need to be implemented because they are not cost effective: (1) Vapor recovery system; (2) recuperative thermal oxidizer; and (3) connecting incinerator piping vents to the USTs.

In order to determine what VOC control technologies could be economically and technologically feasible for the USTs, the EPA reviewed the Reasonably Available Control Technology/Best Available Control Technology/Lowest Achievable Emission Rate Clearinghouse (RBLC).⁹ The EPA's review of the RBLC reveals that no similar UST for methanol storage has VOC controls that are economically feasible, aside from controls that the Facility has already implemented. The EPA's search criteria were based on USTs that store methanol and not solely on the paper manufacturing sector. As such, organic liquid Storage and the chemical manufacturing sectors, including the wood products industry, were included in the RBLC search criteria. Based on the RBLC, the EPA confirms that no new VOC control technologies have become available that could be implemented on the Facility's USTs. Further detail on RBLC results and cost effectiveness is provided in the TSD available in the docket for this rulemaking.

⁹ The RBLC contains case-specific information on the best available air pollution technologies that have been required to reduce the emission of air pollutants from stationary sources. See https://cfpub.epa.gov/rblc/index.cfm?action=Search.BasicSearch&lang=en.

III. Environmental Justice Considerations

The CAA and applicable implementing regulations neither prohibit nor require an evaluation of environmental justice (EJ) considerations and/or concerns, and so the State of New York did not evaluate EJ concerns as part of its SSSIP submittal. The EPA evaluated EJ concerns for informational purposes only and is providing the following details for transparency about this rulemaking to the public. The EPA did not rely on this information to reach any decisions described in this action. The EPA created a Community Report (Report) using its EJ Screen, Version 2.3. The Report is contained in the EPA docket assigned to this Federal Register document.

The Report addresses a 1-mile ring centered at the Facility. All thirteen EJ Screen environmental indexes were considered for the Report: (1) Particulate matter; (2) ozone; (3) nitrogen dioxide; (4) diesel particulate matter; (5) toxic releases to air; (6) traffic proximity; (7) lead paint; (8) superfund proximity; (9) risk management plan (RMP) facility proximity; (10) hazardous waste proximity; (11) underground storage tanks; (12) wastewater discharge; and (13) drinking water noncompliance. Both the EJ Indexes and the Supplemental Indexes were verified using the thirteen environmental indexes. The difference between the EJ and Supplemental indexes is that the EJ Indexes combine data on low income and people of color populations, whereas the Supplemental Indexes combine data on percent low-income, percent persons with disabilities, percent limited English speaking, and low life expectancy. We analyze both EJ Indexes and Supplemental Indexes because they offer different perspectives on community level vulnerability based on different factors. The EPA uses the National percentile for the Report results and not the State percentile since this SSSIP action is a Federal action. The EPA notes that any environmental index result that is 80 percentile or greater is relatively high compared to the United States population. The “percentile” is what EJ Screen uses to compare the area of study to national figures.

The Report results in the following National EJ Indexes 80th percentile or greater: Drinking water noncompliance at 89th percentile. The Report indicates the following National Supplemental Indexes 80th percentile or greater: Nitrogen dioxide at 80th percentile; Lead Paint is at 89th percentile; underground storage tank at 83rd percentile; and drinking water noncompliance at 94th percentile.

The Facility is in a Justice40 designated disadvantaged community. January 2021, President Joe Biden issued Executive Order (E.O.) 14008, Tackling the Climate Crisis at Home and Abroad. Section 223 of the E.O. established the Justice40 Initiative which directs 40 percent of certain Federal investments to flow to disadvantaged communities.

To understand the indexes that are at or higher than 80th percentile, and the Justice40 categories that represent Watertown, NY, refer to Knowlton EJ Screen 80th Percentile and Knowlton EJ Screen Community Report Knowlton August 26, 2024 in docket assigned to this Federal Register document.

IV. Proposed Action

The EPA is proposing to approve the current Source-specific SIP revision because the limits included in the SSSIP are demonstrated to implement RACT for emission unit 1-TANKS that represent two 10,000-gallon USTs. Based on information provided by NYSDEC, and a thorough RBLC review of similar sources, and an analysis of this Source-specific SIP revision, the EPA proposes to approve the VOC emission limits for emission unit 1-TANKS as implementing RACT.

Specifically, the EPA proposes to approve the following limits and associated requirements as implementing RACT: the Facility must: (1) Limit VOC emissions by restricting the methanol throughput at the tanks to 2,500,000 pounds/year with a 12-month rolling total; (2) maintain monthly records to verify the throughput in support of a 12-month rolling total; (3) upon any increase in throughput beyond 2,500,000 pounds/year, submit a VOC RACT demonstration that implements RACT at the higher methanol throughput rate.

V. Incorporation by Reference

In this document, the EPA is proposing to include regulatory text that includes incorporation by reference. In accordance with requirements of 1 CFR 51.5, the EPA is proposing to incorporate by reference revisions to Knowlton Technologies LLC title V operating permit Condition 32 as described in section II. of this preamble. The EPA has made, and will continue to make, these materials available through www.regulations.gov and at the EPA Region II Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this proposed action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this action does not involve technical standards.

In addition, the SIP is not proposing to apply on any Indian reservation land or in any other area where the EPA or an Indian Tribe has demonstrated that a Tribe has jurisdiction. In those areas of Indian country, the rule does not have Tribal implications and it will not impose substantial direct costs on Tribal governments or preempt Tribal law as specified by Executive Order 13175 (65 FR 67249, November 9, 2000).

Executive Order 12898 (Federal Actions to Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The New York State Department of Environmental Conservation did not evaluate environmental justice considerations as part of its SSSIP submittal; the CAA and applicable implementing regulations neither prohibit nor require such an evaluation. The EPA performed an environmental justice analysis, as is described above in the section titled, “Environmental Justice Considerations.” The analysis was done for the purpose of providing additional context and information about this rulemaking to the public, not as a basis of the action. In addition, there is no information in the record upon which this decision is based inconsistent with the stated goal of E.O. 12898 of achieving environmental justice for communities with EJ concerns.

List of Subjects 40 CFR Part 52

Environmental protection, Air pollution control, Incorporation by reference, Intergovernmental relations, Ozone, Reporting, Recordkeeping requirements, and Volatile organic compound.

Authority: 42 U.S.C. 7401 et seq.

Lisa Garcia,
Regional Administrator, Region 2.

[FR Doc. 2024-27594 Filed 11-25-24; 8:45 am]

BILLING CODE 6560-50-P